DEPARTMENT OF THE INTERIOR

Office of the Secretary

Draft Policy on Consultation With Alaska Native Claims Settlement Act Corporations

AGENCY: Office of the Secretary, Interior.

ACTION: Notice of availability and request for comments.

SUMMARY: The Department of the Interior is requesting comments on its draft policy on consultation with Alaska Native Claims Settlement Act corporations.

DATES: Submit comments by April 27, 2012.

ADDRESSES: Send comments on the draft policy to: attn: Alaska Consultation Policy, Office of the Secretary, 1849 C Street NW., Washington, DC 20240; Email: consultation@doi.gov. You can request copies of the draft policy by sending a letter or email to one of the above addresses or by calling 202-208-4503.

FOR FURTHER INFORMATION CONTACT: Jennifer Sisk, Department of the Interior, 1849 C Street NW., Washington, DC 20240. Email: Jennifer_Sisk@ios.doi.gov.

SUPPLEMENTARY INFORMATION: Executive Order 13175 directs all Federal agencies to ensure consultation and coordination with Indian tribal governments on Federal actions that will affect tribal governments. Under Public Law 108-199, this consultation policy also applies to corporations established under the Alaska Native Claims Settlement Act (ANCSA). Federal agencies are therefore required to consult and coordinate with ANCSA corporations on the same basis as Indian tribes in developing policies that would affect these corporations and their tribal shareholders. To implement these requirements, the Department is proposing and seeking comments on a draft consultation policy to govern all activities that will affect ANCSA corporations. Copies of the draft policy are available at the address given in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: February 17, 2012.
David J. Hayes,
Deputy Secretary of the Interior.

[FR Doc. 2012-4393 Filed 2-24-12; 8:45 am]

BILLING CODE 4310-10-P